DEPARTMENT OF HOMELAND SECURITY

Coast Guard

33 CFR Part 117

[Docket No. USCG-2012-0684]

Drawbridge Operation Regulations; Cheesequake Creek, South Amboy, NJ

AGENCY: Coast Guard, DHS.

ACTION: Notice of temporary deviation from regulations.

SUMMARY: The Commander, First Coast Guard District, has issued a temporary deviation from the regulation governing the operation of the Route 35 Bridge across Cheesequake Creek, mile 0.0, at South Amboy, New Jersey. The deviation allows the bridge to remain in the closed position from December through March to facilitate bridge rehabilitation construction.

DATES: This deviation is effective from December 1, 2012 through March 31, 2013.

ADDRESSES: Documents mentioned in this preamble as being available in the docket are part of docket USCG-2012-0684 and are available online at www.regulations.gov, inserting USCG-2012-0684 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

SUPPLEMENTARY INFORMATION: The Route 35 Bridge, across the Cheesequake Creek at mile 0.0, at Morgan, South Amboy, New Jersey, has a vertical clearance in the closed position of 25 feet at mean high water and 30 feet at mean low water. The drawbridge operation regulations are listed at 33 CFR 117.709.

The Coast Guard published a previous temporary deviation (76 FR 35349) in the Federal Register that allowed the bridge to remain closed from December 1, 2011 through March 31, 2012, to facilitate phase one of a bridge rehabilitation project at the Route 35 Bridge. The first temporary deviation achieved successful results and no problems or complaints were received from the mariners that normally transit Cheesequake Creek.

On June 20, 2012, the owner of the bridge, the New Jersey Department of Transportation, requested a second temporary deviation to facilitate completion of phase two of the bridge rehabilitation construction at the bridge.

The Coast Guard published an article in the Local Notice to Mariners on June 28, 2012, concerning the phase two bridge closure, with a request for public comment due on or before July 16, 2012. No comments were received.

Under this second temporary deviation the Route 35 Bridge may remain in the closed position from December 1, 2012 through March 31, 2013. Vessels that can pass under the draw in the closed position may do so at all times.

In accordance with 33 CFR 117.35(e), the bridge must return to its regular operating schedule immediately at the end of the designated time period. This deviation from the operating regulations is authorized under 33 CFR 117.35.

Dated: July 31, 2012.
Gary Kassof,
Bridge Program Manager, First Coast Guard District.

[FR Doc. 2012-19486 Filed 8-8-12; 8:45 am]

BILLING CODE 9110-04-P